DEPARTMENT OF HOMELAND SECURITY

[Docket No. CISA-2021-0022]

Notice of Cybersecurity and Infrastructure Security Agency Cybersecurity Advisory Committee Meeting

AGENCY: Cybersecurity and Infrastructure Security Agency (CISA), Department of Homeland Security (DHS).

ACTION: Notice of Federal Advisory Committee Act (FACA) meeting; request for comments.

SUMMARY: CISA is publishing this notice to announce the following CISA Cybersecurity Advisory Committee meeting.

DATES:

Meeting Registration: Registration to attend the meeting is required and must be received no later than 5:00 p.m. Eastern Time (ET) on March 29, 2022. For more information on how to participate, please contact CISA_CybersecurityAdvisoryCommittee@cisa.dhs.gov.

Speaker Registration: Registration to speak during the meeting's public comment period must be received no later than 5:00 p.m. ET on March 29, 2022.

Written Comments: Written comments must be received no later than 5:00 p.m. ET on March 29, 2022.

Meeting Date: The CISA Cybersecurity Advisory Committee will meet on March 31, 2022, from 2:00 p.m. to 4:00 p.m. ET. The meeting may close early if the committee has completed its business.

ADDRESSES: The CISA Cybersecurity Advisory Committee's meeting will be open to the public, per 41 CFR 102-3.150(a0(4), and held via conference call. For access to the conference call bridge, information on services for individuals with disabilities, or to request special assistance, please email CISA_CybersecurityAdvisoryCommittee@cisa.dhs.gov by 5:00 p.m. ET on March 29, 2022.

Comments: Members of the public are invited to provide comment on issues that will be considered by the committee as listed in the SUPPLEMENTARY INFORMATION section below. Associated materials that may be discussed during the meeting will be made available for review at https://www.cisa.gov/cisa-cybersecurity-advisory-committee-meeting-resources on March 16, 2022. Comments should be submitted by 5:00 p.m. ET on March 29, 2022 and must be identified by Docket Number CISA-2021-0022. Comments may be submitted by one of the following methods:

• Federal eRulemaking Portal: www.regulations.gov. Please follow the instructions for submitting written comments.

• Email: CISA_CybersecurityAdvisoryCommittee@cisa.dhs.gov. Include the Docket Number CISA-2021-0022 in the subject line of the email.

Instructions: All submissions received must include the words “Cybersecurity and Infrastructure Security Agency” and the Docket Number for this action. Comments received will be posted without alteration to www.regulations.gov, including any personal information provided.

Docket: For access to the docket and comments received by the CISA Cybersecurity Advisory Committee, please go to www.regulations.gov and enter docket number CISA-2021-0022.

A public comment period is scheduled to be held during the meeting from 3:40 p.m. to 3:50 p.m. ET. Speakers who wish to participate in the public comment period must email CISA_CybersecurityAdvisoryCommittee@cisa.dhs.gov to register. Speakers should limit their comments to 3 minutes and will speak in order of registration. Please note that the public comment period may end before the time indicated, following the last request for comments.

FOR FURTHER INFORMATION CONTACT: Megan Tsuyi, 202-594-7374, CISA_CybersecurityAdvisoryCommittee@cisa.dhs.gov.

SUPPLEMENTARY INFORMATION: The CISA Cybersecurity Advisory Committee was established under the National Defense Authorization Act for Fiscal Year 2021, Public Law 116-283. Notice of this meeting is given under FACA, 5 U.S.C. Appendix (Pub. L. 92-463). The CISA Cybersecurity Advisory Committee advises the CISA Director on matters related to the development, refinement, and implementation of policies, programs, planning, and training pertaining to the cybersecurity mission of the Agency.

Agenda: The CISA Cybersecurity Advisory Committee will hold a conference call on Thursday, March 31, 2022, to discuss current CISA Cybersecurity Advisory Committee activities and the Government's ongoing cybersecurity initiatives. The focus of this meeting is for the members to hear updates and discuss progress as it relates to the CISA Cybersecurity Advisory Committee's six subcommittees, to include: (1) Transforming the Cyber Workforce Subcommittee; (2) Turning the Corner on Cyber Hygiene Subcommittee; (3) Igniting the Hacker Community Subcommittee; (4) Protecting Critical Infrastructure from Misinformation and Disinformation Subcommittee; (5) Building Resilience and Reducing Systemic Risk to Critical Infrastructure Subcommittee; and (6) Strategic Communications Subcommittee.

Megan Tsuyi,
Designated Federal Officer, CISA Cybersecurity Advisory Committee, Cybersecurity and Infrastructure Security Agency, Department of Homeland Security.

[FR Doc. 2022-05119 Filed 3-10-22; 8:45 am]

BILLING CODE 9110-9P-P